DEPARTMENT OF THE INTERIOR

National Park Service

[NPS-WASO-NAGPRA-NPS0034493; PPWOCRADN0-PCU00RP14.R50000]

Notice of Inventory Completion: Huguenot Historical Society, New Paltz, NY

AGENCY: National Park Service, Interior.

ACTION: Notice.

SUMMARY: The Huguenot Historical Society has completed an inventory of human remains in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Huguenot Historical Society. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Huguenot Historical Society at the address in this notice by October 13, 2022.

FOR FURTHER INFORMATION CONTACT: Liselle LaFrance, President, Huguenot Historical Society, 88 Huguenot Street, New Paltz, NY 12561, telephone (845) 255-1660, email liselle@huguenotstreet.org.

SUPPLEMENTARY INFORMATION: Notice is here given in accordance with the Native American Graves Protection and Repatriation Act (NAGPRA), 25 U.S.C. 3003, of the completion of an inventory of human remains under the control of the Huguenot Historical Society, New Paltz, NY. The human remains were removed from New Paltz, Ulster County, NY.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Huguenot Historical Society professional staff in consultation with representatives of the Delaware Nation, Oklahoma; Delaware Tribe of Indians; and the Stockbridge Munsee Community, Wisconsin (hereafter referred to as “The Tribes”).

History and Description of the Remains

In 2005, human remains representing, at minimum, one individual were removed from Historic Huguenot Street in New Paltz, Ulster County, NY, by Jay Cohen of Cultural Resource Consulting as part of an excavation along the northern wall of the Jean Hasbrouck House. This work was done to comply with the New York State Environmental Quality Review Act. In 2021, the human remains were discovered by Huguenot Historical Society staff during a review of recently returned artifact collections. The human remains are comprised of five skeletal fragments. No known individual was identified. No associated funerary objects are present.

In the early 2000s, human remains representing, at minimum, one individual were removed from Historic Huguenot Street in New Paltz, Ulster County, NY, by Dr. Joe Diamond of State University of New York at New Paltz as part of an archeological field school. After a forensic anthropologist identified the remains as human, they were taken to local law enforcement and the fieldwork was halted. Subsequently, the human remains were given to a representative of the Huguenot Historical Society. In May of 2021, the human remains were discovered by Huguenot Historical Society staff during a review of the collection. No known individual was identified. No associated funerary objects are present.

Stockbridge Munsee Community Tribal Historic Preservation representatives reviewed the collection with Huguenot Historical Society staff in May of 2022 and related that, according to Lenape oral tradition, present-day New Paltz lay within the Tribe's territory. The 1677 Huguenot-Lenape land agreement serves as further, documentary evidence of Lenape history in this location. The descendants of these earlier Lenape are The Tribes.

Determinations Made by the Huguenot Historical Society

Officials of the Huguenot Historical Society have determined that:

• Pursuant to 25 U.S.C. 3001(9), the human remains described in this notice represent the physical remains of two individuals of Native American ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request to Liselle LaFrance, President, Huguenot Historical Society, 88 Huguenot Street, New Paltz, NY 12561, telephone (845) 255-1660, email liselle@huguenotstreet.org, by October 13, 2022. After that date, if no additional requestors have come forward, transfer of control of the human remains to The Tribes may proceed.

The Huguenot Historical Society is responsible for notifying The Tribes that this notice has been published.

Dated: September 1, 2022.
Melanie O'Brien,
Manager, National NAGPRA Program.

[FR Doc. 2022-19783 Filed 9-12-22; 8:45 am]

BILLING CODE 4312-52-P